DEPARTMENT OF DEFENSE

Office of the Secretary

[Docket ID: DOD-2016-OS-0037]

Proposed Collection; Comment Request

AGENCY: Defense Finance and Accounting Service (DFAS), DoD.

ACTION: Notice.

SUMMARY: In compliance with the Paperwork Reduction Act of 1995, the DFAS announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 13, 2016.

ADDRESSES: You may submit comments, identified by docket number and title, by any of the following methods:

• Federal eRulemaking Portal: http://www.regulations.gov. Follow the instructions for submitting comments.

• Mail: ODCMO, Directorate for Oversight and Compliance, 4800 Mark Center Drive, Attn: Mailbox 24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Finance and Accounting Service, 8899 E. 56th Street, Indianapolis, Indiana 46249, ATTN: DFAS-IN/ZPF, Column 327E, Dennis Vollmer, or call DFAS, Finance Policy, at 317-212-5320.

SUPPLEMENTARY INFORMATION:

Title; Associated Form; and OMB Number: Travel Voucher Series to include, “Travel Voucher,” DD 1351, “Travel Voucher or Subvoucher,” DD 1351-2, “Travel Voucher or Subvoucher Continuation Sheet,” DD 1351-2C; OMB Control Number 0730-XXXX.

Needs and Uses: The information collection requirement is necessary to provide for manual input for an automated means of computing reimbursements for individuals for expenses incurred incident to travel for official Government business purposes, accounting for such payments, and reporting those payments necessary for tax purposes to the Internal Revenue service (IRS).

Affected Public: Individuals and Households.

Annual Burden Hours: 229,000.

Number of Respondents: 550,000.

Responses per Respondent: 1.

Annual Responses: 550,000.

Average Burden per Response: 25 minutes.

Frequency: On occasion.

On occasion of completion of official Government travel, information on military Service member dependents, civilian employee dependents, and military retirees and their dependents, is collected in order to properly complete the DD 1351, 1351-2, and 1351-2C, and to submit to DoD as a claim against the Government for monetary travel entitlements due a traveler authorized by DoD regulations governing official Government travel. Data collection on these forms is necessary in order to provide the pertinent information for submission of forms to a travel computation office which is responsible for manually entering the required data into computer software programs designed to accurately calculate monetary entitlements due to an official government traveler and their dependents. If this information is not collected and submitted to the DoD, accurate calculations and payments of entitled monetary amounts due to a traveler may not occur.

Dated: April 8, 2016.
Aaron Siegel,
Alternate OSD Federal Register Liaison Officer, Department of Defense.

[FR Doc. 2016-08549 Filed 4-13-16; 8:45 am]

BILLING CODE 5001-06-P